COMMISSION ON CIVIL RIGHTS

Agenda and Notice of Public Meeting of the Delaware Advisory Committee

AGENCY: Commission on Civil Rights.

ACTION: Announcement of meetings.

SUMMARY: Notice is hereby given, pursuant to the provisions of the rules and regulations of the U.S. Commission on Civil Rights (Commission), and the Federal Advisory Committee Act (FACA), that the Delaware Advisory Committee to the Commission will hold virtual meetings on the first Wednesday of each month beginning at 1 p.m. and ending at approximately 2 p.m. ET (may end sooner than 2 p.m. if business concludes) as follows: January 4, February 1, March 1, and April 4, 2023. The purpose of the meetings is to discuss, perfect and vote on the report—COVID-19-related health disparities and the social determinants affecting people of color in Delaware—the Committee will submit to the agency's Staff Director for publication.

DATES: 1/4/23, 2/1/23, 3/1/23 and 4/5/23; 1 p.m. ET

The access information for all meetings is as follows:

• To join by Zoom web conference: https://tinyurl.com/2sstbf6v (audio/visual)

• To join by phone only, dial 1-551-285-1373 (toll-free); Access code: 160 832 3278#

FOR FURTHER INFORMATION CONTACT: Ivy L. Davis, at ero@usccr.gov or Evelyn Bohor by phone at (202) 381-8915.

SUPPLEMENTARY INFORMATION: These meetings are available to the public through the above Zoom link or phone number. If joining via phone-only, callers can expect to incur charges for calls they initiate over wireless lines, and the Commission will not refund any incurred charges.

Individuals who are deaf, deafblind and hard of hearing. may also follow the proceedings by first calling the Federal Relay Service at 1-800-877-8339 and providing the Service with the call-in number found through registering at the web link provided for each meeting.

Members of the public are entitled to make comments during the open period at the end of each meeting. Members of the public may also submit written comments; the comments must be received in the Regional Programs Unit within 30 days following the respective meeting. Written comments may be emailed to Ivy Davis at: ero@usccr.gov—insert DE statement in the subject line of the transmitting email. Persons who desire additional information may contact Evelyn Bohor at (202) 381-8915.

Records and documents discussed during the meeting will be available for public viewing as they become available at www.facadatabase.gov. Persons interested in the work of this advisory committee are advised to go to the Commission's website, www.usccr.gov, or to contact agency staff people, as noted in the preceding paragraph, by email or phone.

Agenda

Wednesdays at 1 p.m. (ET): 1/4, 2/1, 3/1 and 4/5/23

I. Welcome and Roll Call

II. Project Planning and Report Discussion

III. Other Business

IV. Next Planning Meeting

V. Public Comments

VI. Adjourn

Dated: December 12, 2022.
David Mussatt,
Supervisory Chief, Regional Programs Unit.

[FR Doc. 2022-27210 Filed 12-14-22; 8:45 am]

BILLING CODE P